DEPARTMENT OF LABOR

Mine Safety and Health Administration

Proposed Information Collection Request; Submitted for Public Comment and Recommendations; Approval, Exhaust Gas Monitoring, and Safety Requirements for the Use of Diesel-Powered Equipment in Underground Coal Mines

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(c)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR: 7.83 and 7.97—Application Requirements; 7.90 and 7.105—Approval Markings; 75.363—Hazardous Conditions; Posting Correction, and Recording; 75.371(r), (kk), (ll), (mm), (nn), (oo), and (pp)—Mine Ventilation Plan, Contents; 75.1901(a)—Diesel Fuel Requirements; 75.1904(b)(4)(i)—Underground Diesel Fuel Tanks and Safety Cans; 75.1911(i) and (j)—Fire Suppression Systems for Diesel-Powered Equipment and Fuel Transportation Units; 75.1912(h) and (i)—Fire Suppression Systems for Permanent Underground Diesel Fuel Storage Facilities; 75.1914(f)(1), (2), (g)(5),(h)(1), and (2)—Maintenance of Diesel-Powered Equipment; and 75.1915(a),(b)(5), (c)(1) and (2)—Training and Qualification of Persons Working on Diesel-Powered Equipment.

DATES: Submit comments on or before December 20, 2005.

ADDRESSES: Send comments to U.S. Department of Labor, Mine Safety and Health Administration, John Rowlett, Director, Management Services Division, 1100 Wilson Boulevard, Room 2134, Arlington, VA 22209-3939. Commenters are encouraged to send their comments on a computer disk, or via e-mail to Rowlett.John@dol.gov, along with an original printed copy. Mr. Rowlett can be reached at (202) 693-9827 (voice), or (202) 693-9801 (facsimile).

FOR FURTHER INFORMATION: Contact the employee listed in the ADDRESSES section of this notice.

SUPPLEMENTARY INFORMATION:

I. Background

The regulation addresses three major areas: diesel engine design and testing requirements; safety standards for the maintenance and use of this equipment; and exhaust gas sampling provisions to protect miners' health. It first requires that diesel engines and their critical components meet design specifications and tests to demonstrate that they are explosion-proof and will not cause a fire in a mine where methane may accumulate. Second, the safety requirements for diesel equipment include many of the proven features required in existing standards for electric-powered equipment, such as cabs or canopies, methane monitors, brakes and lights. The regulation also sets safety requirements for fuel handling and storage and fire suppression. Third, sampling of diesel exhaust emissions is required to protect miners from overexposure to carbon monoxide and nitrogen dioxide contained in diesel exhaust.

II. Desired Focus of Comments

Currently, the Mine Safety and Health Administration (MSHA) is soliciting comments concerning the proposed extension of the information collection requirement related to the approval, exhaust gas monitoring and safety requirements for the use of diesel-powered equipment in underground coal mines. MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the For Further Information Contact section of this notice, or viewed on the Internet by accessing the MSHA home page (http://www.msha.gov) and then choosing “Rules and Regs” and “FedReg. Docs”.

III. Current Actions

Provisions under part 7 provide that manufacturers submit applications to demonstrate compliance with the test and specification requirements. In part 75, they establish mandatory safety standards for diesel-powered equipment for use in underground coal mines, minimum ventilating air quantities, the incorporation of the air quantities into the mine ventilation plan, requirements for routine sampling of toxic exhaust gases, and the use of low sulfur diesel fuel. It also provides that diesel equipment maintenance be performed by adequately trained persons. In addition, the regulation includes standards for storage, transportation and dispensing of diesel fuel, and the installation and maintenance of fire suppression systems on diesel equipment and in permanent underground fuel storage facilities.

Type of Review: Extension.

Agency: Mine Safety and Health Administration.

Title: Approval, Exhaust Gas Monitoring, and Safety Requirements for the Use of Diesel-Powered Equipment in Underground Coal Mines.

OMB Number: 1219-0119.

Frequency: On Occasion.

Affected Public: Business or other for-profit.

Total Respondents: 181.

Total Responses: 147,567.

Total Burden Hours: 137,675.

Total Burden Cost (operating/maintaining): $349,888.

Comments submitted in response to this notice will be summarized and/or included in the request for Office of Management and Budget approval of the information collection request; they will also become a matter of public record.

Dated at Arlington, Virginia, this 14th day of October, 2005.
David L. Meyer,
Director, Office of Administration and Management.

[FR Doc. 05-21064 Filed 10-20-05; 8:45 am]

BILLING CODE 4510-43-P